NUCLEAR REGULATORY COMMISSION

[NRC-2021-0225]

Monthly Notice; Applications and Amendments to Facility Operating Licenses and Combined Licenses Involving No Significant Hazards Considerations

AGENCY: Nuclear Regulatory Commission.

ACTION: Monthly notice.

SUMMARY: Pursuant to the Atomic Energy Act of 1954 as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from November 11, 2021, to December 9, 2021. The last monthly notice was published on November 30, 2021.

DATES: Comments must be filed by January 27, 2022. A request for a hearing or petitions for leave to intervene must be filed by February 28, 2022.

ADDRESSES: You may submit comments by any of the following; however, the NRC encourages electronic comment submission through the Federal rulemaking website:

• Federal rulemaking website: Go to https://www.regulations.gov and search for Docket ID NRC-2021-0225. Address questions about Docket IDs in Regulations.gov to Stacy Schumann; telephone: 301-415-0624; email: Stacy.Schumann@nrc.gov. For technical questions, contact the individual listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Susan Lent, Office of Nuclear Reactor Regulation, U.S. Nuclear Regulatory Commission, Washington, DC 20555-0001, telephone: 301-415-1365, email: Susan.Lent@nrc.gov.

SUPPLEMENTARY INFORMATION:

I. Obtaining Information and Submitting Comments

A. Obtaining Information

Please refer to Docket ID NRC-2021-0225, facility name, unit number(s), docket number(s), application date, and subject when contacting the NRC about the availability of information for this action. You may obtain publicly available information related to this action by any of the following methods:

• Federal Rulemaking Website: Go to https://www.regulations.gov and search for Docket ID NRC-2021-0225.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

B. Submitting Comments

The NRC encourages electronic comment submission through the Federal rulemaking website (https://www.regulations.gov). Please include Docket ID NRC-2021-0225, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this document, the Commission finds that the licensees' analyses provided, consistent with section 50.91 of title 10 of the Code of Federal Regulations (10 CFR), “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the Guidance for Electronic Submissions to the NRC (ADAMS Accession No. ML13031A056) and on the NRC website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system timestamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Dominion Energy Nuclear Connecticut, Inc.; Millstone Power Station, Units 1, 2 and 3; New London County, CT; Virginia Electric and Power Company, Dominion Nuclear Company; North Anna Power Station, Units 1 and 2; Louisa County, VA; Virginia Electric and Power Company; Surry Power Station, Units 1 and 2; Surry County, VA
Docket No(s) | 50-245, 50-336, 50-423, 50-338, 50-339, 50-280, 50-281.
Application date | October 21, 2021.
ADAMS Accession No | ML21294A338.
Location in Application of NSHC | Millstone: Enclosure 1, Attachment H; North Anna: Enclosure 2, Attachment D; Surry: Enclosure 3, Attachment D.
Brief Description of Amendment(s) | The proposed amendments would modify Millstone 1 Technical Specification (TS) 5.3.1, Millstone 2 and 3 TS 6.3.1, North Anna TS 5.3.1, and Surry TS 6.1.3 to relocate requirements related to “Facility Staff Qualifications” and “Unit Staff Qualifications” to the Dominion Energy Nuclear Facility Quality Assurance Program.
Proposed Determination | NSHC.
Name of Attorney for Licensee, Mailing Address | W. S. Blair, Senior Counsel, Dominion Resource Services, Inc., 120 Tredegar St., RS-2, Richmond, VA 23219.
NRC Project Manager, Telephone Number | G. Ed Miller, 301-415-2481.
Duke Energy Carolinas, LLC; Catawba Nuclear Station, Units 1 and 2; York County, SC; Duke Energy Carolinas, LLC; McGuire Nuclear Station, Units 1 and 2; Mecklenburg County, NC; Duke Energy Progress, LLC; Shearon Harris Nuclear Power Plant, Unit 1; Wake and Chatham Counties, NC
Docket No(s) | 50-413, 50-414, 50-369, 50-370, 50-400.
Application date | September 16, 2021.
ADAMS Accession No | ML21259A093.
Location in Application of NSHC | Pages 2-3 of the Enclosure.
Brief Description of Amendment(s) | The proposed amendments request adoption of the approved Technical Specifications Task Force (TSTF)-577, “Revised Frequencies for Steam Generator Tube Inspections” for the five units' technical specifications.
Proposed Determination | NSHC.
Name of Attorney for Licensee, Mailing Address | Kathryn B. Nolan, Deputy General Counsel, Duke Energy Corporation, 550 South Tryon Street (DEC45A), Charlotte, NC 28202.
NRC Project Manager, Telephone Number | Andrew Hon, 301-415-8480.
Duke Energy Progress, LLC; Shearon Harris Nuclear Power Plant, Unit 1; Wake and Chatham Counties, NC
Docket No(s) | 50-400.
Application date | September 23, 2021.
ADAMS Accession No. | ML21266A396.
Location in Application of NSHC | Pages 9-10 of the Enclosure.
Brief Description of Amendment(s) | The proposed amendment would revise certain technical specification surveillance requirements to eliminate the condition that testing be conducted “during shutdown.”
Proposed Determination | NSHC.
Name of Attorney for Licensee, Mailing Address | Kathryn B. Nolan, Deputy General Counsel, Duke Energy Corporation, 550 South Tryon Street (DEC45A), Charlotte, NC 28202; Kathryn B. Nolan, Deputy General Counsel, Duke Energy Corporation, 550 South Tryon Street (DEC45A), Charlotte, NC 28202; Michelle Spak, General Counsel, Duke Energy Corporation, 550 South Tryon St.—DEC45A, Charlotte, NC 28202.
NRC Project Manager, Telephone Number | Andrew Hon, 301-415-8480.
Energy Harbor Nuclear Corp. and Energy Harbor Nuclear Generation LLC; Beaver Valley Power Station, Unit Nos. 1 and 2; Beaver County, PA; Energy Harbor Nuclear Corp. and Energy Harbor Nuclear Generation LLC; Davis-Besse Nuclear Power Station, Unit No. 1; Ottawa County, OH; Energy Harbor Nuclear Corp. and Energy Harbor Nuclear Generation LLC; Perry Nuclear Power Plant, Unit No. 1; Lake County, OH
Docket No(s) | 50-334, 50-346, 50-412, 50-440.
Application date | October 19, 2021.
ADAMS Accession No | ML21292A274.
Location in Application of NSHC | Enclosure Pages 4, 5 and 6.
Brief Description of Amendment(s) | The proposed amendments, with some variants, request adoption of Technical Specifications Task Force (TSTF)-554, “Revise Reactor Coolant Leakage Requirements,” which is an approved change to the Standard Technical Specifications, into the BVPS, DBNPS, and PNPP Technical Specifications (TSs). The proposed amendments would revise the TS definition of “Leakage,” clarifies the requirements when pressure boundary leakage is detected, and adds a Required Action when pressure boundary leakage is identified.
Proposed Determination. | NSHC
Name of Attorney for Licensee, Mailing Address | Rick Giannantonio, General Counsel, Energy Harbor Nuclear Corp., Mail Stop A-GO-15, 76 South Main Street, Akron, OH 44308.
NRC Project Manager, Telephone Number | Bhalchandra Vaidya, 301-415-3308.
Exelon FitzPatrick, LLC and Exelon Generation Company, LLC; James A. FitzPatrick Nuclear Power Plant; Oswego County, NY
Docket No(s) | 50-333.
Application date | October 18, 2021.
ADAMS Accession No. | ML21291A110.
Location in Application of NSHC | Pages 16-18 of the Enclosure.
Brief Description of Amendment(s) | The proposed amendment would modify the technical specifications (TS) to eliminate the response time testing requirements for TS Section 3.3.1.1, “Reactor Protection System (RPS) Instrumentation,” Reactor Pressure—High function, Reactor Vessel Water Level—Low (Level 3) function and TS Section 3.3.6.1, “Primary Containment Isolation Instrumentation” Reactor Vessel Water Level—Low Low Low (Level 1) function, Main Steam Line Pressure—Low function and Main Steam Line Flow—High function. The proposed changes are consistent with the Boiling-Water Reactor Owner's Group Licensing Topical report as approved by the NRC. The proposed amendment also deletes surveillance requirement 3.3.6.1.8.
Proposed Determination | NSHC.
Name of Attorney for Licensee, Mailing Address | Donald P. Ferraro, Assistant General Counsel, Exelon Generation Company, LLC, 200 Exelon Way, Suite 305, Kennett Square, PA 19348.
NRC Project Manager, Telephone Number | Justin Poole, 301-415-2048.
Indiana Michigan Power Company; Donald C. Cook Nuclear Plant, Unit 1 and Unit 2; Berrien County, MI
Docket No(s) | 50-315, 50-316.
Application date | November 8, 2021.
ADAMS Accession No. | ML21312A518.
Location in Application of NSHC | Pages 2-3 of Enclosure 2.
Brief Description of Amendment(s) | The proposed amendments requested adoption of Technical Specifications Task Force (TSTF) Traveler, TSTF-577, Revision 1, “Revised Frequencies for Steam Generator Tube Inspections.”
Proposed Determination | NSHC.
Name of Attorney for Licensee, Mailing Address | Robert B. Haemer, Senior Nuclear Counsel, Indiana Michigan Power Company, One Cook Place, Bridgman, MI 49106.
NRC Project Manager, Telephone Number | Scott Wall, 301-415-2855.
Pacific Gas and Electric Company; Diablo Canyon Power Plant, Units 1 and 2; San Luis Obispo County, CA
Docket No(s) | 50-275, 50-323.
Application date | October 8, 2021.
ADAMS Accession No | ML21284A003.
Location in Application of NSHC | Pages 52-54 of Enclosure 1.
Brief Description of Amendment(s) | The proposed amendments would revise the Diablo Canyon Nuclear Power Plant, Units 1 and 2, Emergency Plan for the post-shutdown and permanently defueled condition to support decommissioning.
Proposed Determination | NSHC.
Name of Attorney for Licensee, Mailing Address | Jennifer Post, Esq., Pacific Gas and Electric Co., 77 Beale Street, Room 3065, Mail Code B30A, San Francisco, CA 94105.
NRC Project Manager, Telephone Number | Samson Lee, 301-415-3168.
PSEG Nuclear LLC; Hope Creek Generating Station; Salem County, NJ
Docket No(s) | 50-354.
Application date | November 3, 2021.
ADAMS Accession No | ML21307A405.
Location in Application of NSHC | Pages 8-9 of the Enclosure.
Brief Description of Amendment(s) | The proposed amendment would revise Technical Specifications (TS) Surveillance Requirement (SR) 4.8.4.4.a and SR 4.8.4.6.a for performance of a CHANNEL FUNCTIONAL TEST for the Reactor Protection System and Power Range Neutron Monitoring System Electric Power Monitoring Channels respectively to relocate the mode requirements for performance of the SR to a separate note in TS and relocate the surveillance frequency to the licensee control. The proposed change controls the frequency of performance of the SR via the Surveillance Frequency Control Program.
Proposed Determination | NSHC.
Name of Attorney for Licensee, Mailing Address | Jodi Varon, PSEG Services Corporation, 80 Park Plaza, T-5, Newark, NJ 07102.
NRC Project Manager, Telephone Number | James Kim, 301-415-4125.
Southern Nuclear Operating Company, Inc.; Edwin I. Hatch Nuclear Plant, Units 1 and 2; Appling County, GA
Docket No(s) | 50-321, 50-366.
Application date | October 26, 2021.
ADAMS Accession No | ML21300A153.
Location in Application of NSHC | Pages A1-6 through A1-7 of Attachment.
Brief Description of Amendment(s) | The proposed amendments would revise the technical specifications (TS) for Edwin I. Hatch Nuclear Plant, Units 1 and 2 (Hatch) renewed facility operating licenses DPR-57 and NPF-5, respectively. The proposed amendment would modify Hatch TS requirements to permit the use of Risk Informed Completion Times in accordance with Technical Specifications Task Force (TSTF)-505, Revision 2, “Provide Risk-Informed Extended Completion Times—RITSTF Initiative 4b” (ADAMS Accession No. ML18183A493). A model safety evaluation was provided by the NRC to the TSTF on November 21, 2018 (ADAMS Package Accession No. ML18269A041).
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Southern Nuclear Operating Company, Inc.; Vogtle Electric Generating Plant, Units 1 and 2; Burke County, GA
Docket No(s) | 50-424, 50-425.
Application date | September 30, 2021.
ADAMS Accession No | ML21274A073.
Location in Application of NSHC | Pages E-27 through E-29 of Enclosure.
Brief Description of Amendment(s) | The proposed amendments would revise the Vogtle Technical Specification (TS) 3.7.2, “Main Steam Isolation Valves (MSIVs).” The TS Limiting Condition for Operation (LCO) currently requires two MSIV systems per main steam line be Operable in Mode 1, and Modes 2 and 3 with exceptions. The amendment proposes to change TS 3.7.2, LCO, to require four MSIVs and their associated actuators and associated bypass valves be Operable in Mode 1, and Modes 2 and 3 with exceptions. The proposed Conditions and Required Actions are to be changed and added to incorporate the change in the LCO scope. The existing Surveillance Requirement (SR) is proposed to be updated and a new SR is proposed to be added to reflect the change in the LCO requirements.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Tennessee Valley Authority; Browns Ferry Nuclear Plant, Units 1, 2, and 3; Limestone County, AL
Docket No(s) | 50-259, 50-260, 50-296.
Application date | November 19, 2021.
ADAMS Accession No | ML21323A125.
Location in Application of NSHC | Pages E2-E4 of the Enclosure.
Brief Description of Amendment(s) | The proposed amendments would revise Technical Specifications (TS) 3.6.2.6 (correlates to boiling water reactor (BWR)/4 TS 3.6.2.5), “Drywell-to-Suppression Chamber Differential Pressure,” and TS 3.6.3.2, “Primary Containment Oxygen Concentration,” based on TS Task Force (TSTF) Traveler TSTF-568-A, Revision 2, “Revise Applicability of BWR/4 TS 3.6.2.5 and TS 3.6.3.2,” (ADAMS Accession No. ML19141A122), and the associated NRC safety evaluation for TSTF-568-A (ADAMS Accession No. ML19325C434).
Proposed Determination | NSHC.
Name of Attorney for Licensee, Mailing Address | David Fountain, Executive VP and General Counsel, Tennessee Valley Authority, 400 West Summit Hill Drive, WT 6A, Knoxville, TN 37902.
NRC Project Manager, Telephone Number | Luke Haeg, 301-415-0272.
Tennessee Valley Authority; Sequoyah Nuclear Plant, Unit 1; Hamilton County, TN; Tennessee Valley Authority; Sequoyah Nuclear Plant, Unit 2; Hamilton County, TN
Docket No(s) | 50-327, 50-328.
Application date | October 29, 2021.
ADAMS Accession No | ML21302A238.
Location in Application of NSHC | Pages E7, E8 and E9 of the Enclosure.
Brief Description of Amendment(s) | This proposed license amendments will revise the technical specifications by deleting the requirement for the power range neutron flux rate—high negative rate trip function.
Proposed Determination | NSHC.
Name of Attorney for Licensee, Mailing Address | David Fountain, Executive VP and General Counsel, Tennessee Valley Authority, 400 West Summit Hill Drive, WT 6A, Knoxville, TN 37902.
NRC Project Manager, Telephone Number | Perry Buckberg, 301-415-1383.
Tennessee Valley Authority; Watts Bar Nuclear Plant, Units 1 and 2; Rhea County, TN
Docket No(s) | 50-390, 50-391.
Application date | September 29, 2021.
ADAMS Accession No | ML21273A046.
Location in Application of NSHC | Pages E31-E33 of the Enclosure.
Brief Description of Amendment(s) | The proposed amendments would revise Watts Bar, Units 1 and 2, Technical Specification (TS) 3.7.8, “Essential Raw Cooling Water (ERCW) System,” by adding a new Condition A to Watts Bar, Unit 1, TS 3.7.8 to extend the allowed Completion Time to restore one ERCW system train to operable status from 72 hours to 7 days, to support maintenance on the Watts Bar, Unit 2, 6.9 kV shutdown boards. The proposed amendments would also revise the bounding temperature for the ultimate heat sink in Condition A to less than or equal to 78 degrees Fahrenheit. Additionally, the proposed amendments would: Add and/or revise a Note for Condition A to specify when the Condition applies; renumber existing Conditions A and B as Conditions B and C and revise the wording accordingly for Unit 1; and revise the wording for Condition C for Unit 2 to reflect that Condition C applies to both Required Actions A.1 and A.2.
Proposed Determination | NSHC.
Name of Attorney for Licensee, Mailing Address | David Fountain, Executive VP and General Counsel, Tennessee Valley Authority, 400 West Summit Hill Drive, WT 6A, Knoxville, TN 37902.
NRC Project Manager, Telephone Number | Kimberly Green, 301-415-1627.
Union Electric Company; Callaway Plant, Unit No. 1; Callaway County, MO
Docket No(s) | 50-483.
Application date | March 31, 2021, as supplemented by letter(s) dated May 27, 2021, July 22, 2021, August 23, 2021, and October 7, 2021.
ADAMS Accession No | ML21090A184 (Package), ML21147A222, ML21203A192 (Package), ML21237A135 (Package), ML21280A378 (Package).
Location in Application of NSHC | Pages 32-35 of Enclosure 2 of the supplement dated October 7, 2021.
Brief Description of Amendment(s) | The proposed amendment would revise the licensing basis as described in the Callaway Plant, Unit No. 1 Final Safety Analysis Report to allow the use of a risk-informed approach to address safety issues discussed in Generic Letter 2004-02, “Potential Impact of Debris Blockage on Emergency Recirculation during Design Basis Accidents at Pressurized-Water Reactors.” In addition, the proposed amendment would: (1) Revise the technical specifications (TSs) for the emergency core cooling system (ECCS) by deleting Surveillance Requirement (SR) 3.5.2.8 in TS 3.5.2, “ECCS—Operating,” and deleting its mention from SR 3.5.3.1 in TS 3.5.3, “ECCS—Shutdown”; (2) add new TS 3.6.8, “Containment Sumps,” with appropriate conditions, required actions and completion times, including new SR 3.6.8.1 for visual inspection of the containment sumps; and (3) revise TS 5.5.15, “Safety Function Determination Program,” to clarify the application of TS Limiting Condition for Operation 3.0.6 to the containment sumps.
Proposed Determination | NSHC.
Name of Attorney for Licensee, Mailing Address | Jay E. Silberg, Pillsbury Winthrop Shaw Pittman LLP, 1200 17th St. NW, Washington, DC 20036.
NRC Project Manager, Telephone Number | Mahesh Chawla, 301-415-8371.
Wolf Creek Nuclear Operating Corporation; Wolf Creek Generating Station, Unit 1; Coffey County, KS
Docket No(s) | 50-482.
Application date | September 29, 2021.
ADAMS Accession No | ML21272A369.
Location in Application of NSHC | Pages 27-30 of Attachment I.
Brief Description of Amendment(s) | The proposed amendment would extend the diesel generator completion time in Technical Specification 3.8.1, “AC [Alternating Current] Sources—Operating,” for one inoperable diesel generator to 14 days and remove the requirements associated with the Sharpe Station gensets based on the availability of a supplemental power source (i.e., Station Blackout Diesel Generator System) for the Wolf Creek Generating Station, Unit 1.
Proposed Determination | NSHC.
Name of Attorney for Licensee, Mailing Address | Thomas C. Poindexter, Morgan, Lewis and Bockius LLP, 1111 Pennsylvania Avenue NW, Washington, DC 20004-2541.
NRC Project Manager, Telephone Number | Samson Lee, 301-415-3168.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Dominion Energy Nuclear Connecticut, Inc.; Millstone Power Station, Unit No. 3; New London County, CT
Docket No(s). | 50-423
Amendment Date | November 9, 2021
ADAMS Accession No. | ML21262A001
Amendment No(s). | 280
Brief Description of Amendment(s) | The amendment increased the authorized reactor core power level by approximately 1.6 percent rated thermal power (RTP) from 3,650 megawatts thermal (MWt) to 3,709 MWt, based on the use of the existing Cameron Technology US LLC (currently known as Sensia, formerly known as Caldon) Leading Edge Flow Meter CheckPlus system. The amendment also revised operating license paragraph 2.C.(1) and Technical Specification (TS) 1.27, to reflect the increase in RTP. Additionally, TS 3.7.1.1, Action Statement “a” and TS Table 3.7-1, “Operable MSSVs Versus Maximum Allowable Power” was updated to revise the maximum allowable power levels corresponding to the number of operable main steam safety valves per steam generator, and TS 2.1.1.1 was revised to make an editorial correction.
Public Comments Received as to Proposed NSHC (Yes/No) | No
Duke Energy Florida, LLC; Crystal River Unit 3 Nuclear Generating Station; Citrus County, FL
Docket No(s). | 50-302
Amendment Date | October 13, 2021
ADAMS Accession No. | ML21238A095
Amendment No(s). | 259
Brief Description of Amendment(s) | This amendment revised the Independent Spent Fuel Storage Installation-Only Emergency Plan.
Public Comments Received as to Proposed NSHC (Yes/No) | No
Duke Energy Florida, LLC; Crystal River Unit 3 Nuclear Generating Station; Citrus County, FL
Docket No(s). | 50-302
Amendment Date | October 18, 2021
ADAMS Accession No. | ML21288A409 (Package)
Amendment No(s). | 259
Brief Description of Amendment(s) | This is a correction to the safety evaluation for the issuance of Amendment No. 259 which approved the Independent Spent Fuel Storage Installation-Only Emergency Plan
Public Comments Received as to Proposed NSHC (Yes/No) | No
Energy Northwest; Columbia Generating Station; Benton County, WA
Docket No(s). | 50-397
Amendment Date | November 22, 2021
ADAMS Accession No. | ML21273A167
Amendment No(s). | 265
Brief Description of Amendment(s) | The amendment revised the Columbia Generating Station Technical Specifications to adopt Technical Specifications Task Force (TSTF) Traveler TSTF 439, Revision 2, “Eliminate Second Completion Times Limiting Time from Discovery of Failure to Meet an LCO [Limiting Condition for Operation],” dated June 20, 2005, as described in the safety evaluation enclosed with the amendment.
Public Comments Received as to Proposed NSHC (Yes/No) | No
Entergy Operations, Inc.; Arkansas Nuclear One, Units 1 and 2; Pope County, AR; Entergy Operations, Inc.; Waterford Steam Electric Station, Unit 3; St. Charles Parish, LA
Docket No(s). | 50-313, 50-368, 50-382
Amendment Date | December 8, 2021
ADAMS Accession No. | ML21313A008
Amendment No(s). | Arkansas, Unit 1-273; Arkansas, Unit 2-326; and Waterford-262
Brief Description of Amendment(s) | The amendments revised the technical specifications (TSs) by adopting Technical Specifications Task Force (TSTF) Traveler TSTF-577, Revision 1, “Revised Frequencies for Steam Generator Tube Inspections,” dated March 1, 2021 (ADAMS Accession No. ML21060B434), and the associated NRC staff safety evaluation of TSTF 577, dated April 14, 2021 (ADAMS Accession No. ML21098A188). The changes revised the “Steam Generator (SG) Program” and the “Steam Generator Tube Inspection Report” TSs.
Public Comments Received as to Proposed NSHC (Yes/No) | No
Exelon Generation Company, LLC; Clinton Power Station, Unit No. 1; DeWitt County, IL; Exelon Generation Company, LLC; Dresden Nuclear Power Station, Units 2 and 3; Grundy County, IL; Exelon Generation Company, LLC; LaSalle County Station, Units 1 and 2; LaSalle County, IL; Exelon Generation Company, LLC; Quad Cities Nuclear Power Station, Units 1 and 2; Rock Island County, IL
Docket No(s). | 50-461, 50-237, 50-249, 50-373, 50-374, 50-254, 50-265
Amendment Date | December 7, 2021
ADAMS Accession No. | ML21307A342
Amendment No(s). | Clinton 240; Dresden 275 (Unit 2) and 268 (Unit 3); LaSalle 252 (Unit 1) and 238 (Unit 2); Quad Cities 287 (Unit 1) and 283 (Unit 2)
Brief Description of Amendment(s) | The amendments revised the technical specifications related to the reactor pressure vessel (RPV) water inventory control (WIC) for each facility based on Technical Specifications Task Force (TSTF) Traveler TSTF-582, Revision 0, “RPV WIC Enhancements” (ADAMS Accession No. ML19240A260) with variations.
Public Comments Received as to Proposed NSHC (Yes/No) | No
Nine Mile Point Nuclear Station, LLC and Exelon Generation Company, LLC; Nine Mile Point Nuclear Station, Unit 2; Oswego County, NY
Docket No(s). | 50-410
Amendment Date | November 15, 2021
ADAMS Accession No. | ML21295A734
Amendment No(s). | 187
Brief Description of Amendment(s) | The amendment revised Technical Specification (TS) 3.8.3, “Diesel Fuel Oil, Lube Oil, and Starting Air,” by relocating the current stored diesel fuel oil and lube oil numerical volume requirements from the TS to a licensee-controlled document. The TS are modified so that the stored diesel fuel oil and lube oil inventory will require that a 7-day supply be available for each diesel generator. Condition A and Condition B in the Action table for TS 3.8.3 and Surveillance Requirements 3.8.3.1 and 3.8.3.2 are revised to reflect the change noted.
Public Comments Received as to Proposed NSHC (Yes/No) | No
Northern States Power Company—Minnesota; Prairie Island Nuclear Generating Plant, Unit Nos. 1 and 2; Goodhue County, MN
Docket No(s). | 50-282, 50-306
Amendment Date | November 23, 2021
ADAMS Accession No. | ML21312A021
Amendment No(s). | Unit 1—237, Unit 2—225
Brief Description of Amendment(s) | The amendments modified the TSs to include a note to TS 3.7.8 “Cooling Water (CL) System,” Condition B, one CL supply header inoperable, Required Action B.1, verify vertical motor-driven CL pump operable, completion time of 4 hours, to allow a completion time of up to 36 hours to support blind flange installation and to allow the removal of the blind flange during the time frame of November 28, 2021, to December 28, 2021.
Public Comments Received as to Proposed NSHC (Yes/No) | No
Northern States Power Company; Monticello Nuclear Generating Plant; Wright County, MN
Docket No(s). | 50-263
Amendment Date | October 15, 2021
ADAMS Accession No. | ML21223A280
Amendment No(s). | 207
Brief Description of Amendment(s) | The amendment revised Technical Specification Safety Limit 2.1.1.3, the reactor core safety limit for the minimum critical power ratio (MCPR). The changes are based on Technical Specifications Task Force (TSTF) Traveler TSTF-564, Revision 2, “Safety Limit MCPR,” dated October 24, 2018.
Public Comments Received as to Proposed NSHC (Yes/No) | No
PSEG Nuclear LLC; Salem Nuclear Generating Station, Unit Nos. 1 and 2; Salem County, NJ
Docket No(s). | 50-272, 50-311
Amendment Date | November 15, 2021
ADAMS Accession No. | ML21295A229
Amendment No(s). | 340 (Unit 1) and 321 (Unit 2)
Brief Description of Amendment(s) | The amendments adopted Technical Specifications Task Force (TSTF) Traveler TSTF-569, “Revise Response Time Testing Definition,” to revise the technical specification definitions for the engineered safety feature response time and reactor trip system response time.
Public Comments Received as to Proposed NSHC (Yes/No) | No
SHINE Medical Technologies, LLC; SHINE Medical Isotope Production Facility; Janesville, WI
Docket No(s). | 50-608
Amendment Date | December 2, 2021
ADAMS Accession No. | ML21320A225 (Package)
Amendment No(s). | 2
Brief Description of Amendment(s) | The amendment added two new conditions, 3.E and 3.F, and a new finding related to these conditions to the construction permit in response to the application dated April 29, 2021 (ADAMS Package Accession No. ML21119A165), as supplemented on August 20, 2021, and December 2, 2021 (ADAMS Package Accession No. ML21242A028 and ADAMS Accession No. ML21336A193, respectively). The amendment allows the receipt and possession of certain radioactive materials to be installed during the construction of the SHINE Medical Isotope Production Facility.
Public Comments Received as to Proposed NSHC (Yes/No) | No
Southern Nuclear Operating Company, Inc.; Edwin I. Hatch Nuclear Plant, Unit Nos. 1 and 2; Appling County, GA; Southern Nuclear Operating Company, Inc.; Joseph M. Farley Nuclear Plant, Units 1 and 2; Houston County, AL; Southern Nuclear Operating Company, Inc.; Vogtle Electric Generating Plant, Units 1 and 2; Burke County, GA
Docket No(s). | 50-321, 50-366, 50-348, 50-364, 50-424, 50-425
Amendment Date | November 18, 2021
ADAMS Accession No. | ML21270A086
Amendment No(s). | 237, 234, 313, 258, 209, and 192
Brief Description of Amendment(s) | The amendments revised technical specification (TS) 5.0, “Administrative Controls,” specifically, TS 5.7, “High Radiation Area,” to align with the Standard Technical Specifications in NUREG-1431, “Standard Technical Specifications Westinghouse Plants,” Revision 4.0, and NUREG-1433, “Standard Technical Specifications General Electric BWR [boiling water reactor]/4 Plants,” Revision 4.0, as applicable.
Public Comments Received as to Proposed NSHC (Yes/No) | No
Southern Nuclear Operating Company, Inc.; Vogtle Electric Generating Plant, Units 1 and 2; Burke County, GA
Docket No(s). | 50-424, 50-425
Amendment Date | December 7, 2021
ADAMS Accession No. | ML21314A150
Amendment No(s). | 210, 193
Brief Description of Amendment(s) | The amendments revised the Allowable Values for the Loss of Voltage and Degraded Voltage relay voltage settings in Technical Specification 3.3.5, “4.16 kV [kilovolt] ESF [Engineered Safety Feature] Loss of Power (LOP) Instrumentation,” Surveillance Requirement 3.3.5.2 for Vogtle, Units 1 and 2.
Public Comments Received as to Proposed NSHC (Yes/No) | No
STP Nuclear Operating Company; South Texas Project, Units 1 and 2; Matagorda County, TX
Docket No(s). | 50-498, 50-499
Amendment Date | December 8, 2021
ADAMS Accession No. | ML21320A002
Amendment No(s). | 223 (Unit 1) and 208 (Unit 2)
Brief Description of Amendment(s) | The amendments revised the technical specifications by adding a note to Limiting Condition for Operation 3.6.3 allowing for penetration flow paths to be unisolated intermittently under administrative controls. The amendments also removed the Index from the technical specifications and placed them under licensee control.
Public Comments Received as to Proposed NSHC (Yes/No) | No
STP Nuclear Operating Company; South Texas Project, Units 1 and 2; Matagorda County, TX
Docket No(s). | 50-498, 50-499
Amendment Date | December 9, 2021
ADAMS Accession No. | ML21319A355
Amendment No(s). | 224 (Unit 1) and 209 (Unit 2)
Brief Description of Amendment(s) | The amendments adopted Technical Specifications Task Force (TSTF) Traveler TSTF-577, Revision 1, “Revised Frequencies for Steam Generator Tube Inspections.” The amendments modified the technical specification requirements related to steam generator tube inspections and reporting based on operating history.
Public Comments Received as to Proposed NSHC (Yes/No) | No
Tennessee Valley Authority; Watts Bar Nuclear Plant, Unit 2; Rhea County, TN
Docket No(s). | 50-391
Amendment Date | November 22, 2021
ADAMS Accession No. | ML21260A210
Amendment No(s). | 57
Brief Description of Amendment(s) | The amendment revised Watts Bar, Unit 2, technical specification (TS) to change the steam generator water level requirement in the Watts Bar, Unit 2 TS Limiting Condition for Operation 3.4.7.b, “RCS Loops—MODE 5, Loops Filled,” and Watts Bar, Unit 2 Surveillance Requirements (SR) 3.4.5.2, “RCS Loops—MODE 3,” SR 3.4.6.3, “RCS Loops—MODE 4,” and SR 3.4.7.2 from greater than or equal to 6 percent to greater than or equal to 32 percent. The change is needed to support the Watts Bar, Unit 2 Replacement project scheduled for the Watts Bar, Unit 2 Cycle 4 Refueling Outage (U2R4), which is scheduled to commence in spring 2022.
Public Comments Received as to Proposed NSHC (Yes/No) | No
Virginia Electric and Power Company; Surry Power Station, Units 1 and 2; Surry County, VA
Docket No(s). | 50-280, 50-281
Amendment Date | November 19, 2021
ADAMS Accession No. | ML21253A063
Amendment No(s). | 306 (Unit 1) and 306 (Unit 2)
Brief Description of Amendment(s) | The amendments updated the Alternative Source Term analysis for the Surry Power Station, Units 1 and 2 following a Loss of Coolant Accident.
Public Comments Received as to Proposed NSHC (Yes/No) | No

IV. Notice of Issuance of Amendments to Facility Operating Licenses and Combined Licenses and Final Determination of No Significant Hazards Consideration and Opportunity for a Hearing (Exigent Circumstances or Emergency Situation)

Since publication of the last monthly notice, the Commission has issued the following amendment. The Commission has determined for this amendment that the application for the amendment complies with the standards and requirements of the Atomic Energy Act of 1954, as amended (the Act), and the Commission's rules and regulations. The Commission has made appropriate findings as required by the Act and the Commission's rules and regulations in 10 CFR chapter I, which are set forth in the license amendment.

Because of exigent circumstances or emergency situation associated with the date the amendment was needed, there was not time for the Commission to publish, for public comment before issuance, its usual notice of consideration of issuance of amendment, proposed NSHC determination, and opportunity for a hearing.

For exigent circumstances, the Commission has either issued a Federal Register notice providing opportunity for public comment or has used local media to provide notice to the public in the area surrounding a licensee's facility of the licensee's application and of the Commission's proposed determination of NSHC. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its NSHC determination. In such case, the license amendment has been issued without opportunity for comment prior to issuance. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that NSHC is involved.

The Commission has applied the standards of 10 CFR 50.92 and has made a final determination that the amendments involve NSHC. The basis for this determination is contained in the documents related to each action. Accordingly, the amendment has been issued and made effective as indicated. For those amendments that have not been previously noticed in the Federal Register, within 60 days after the date of publication of this notice, any persons (petitioner) whose interest may be affected by this action may file a request for a hearing and petition for leave to intervene (petition) with respect to the action. Petitions shall be filed in accordance with the guidance concerning the Commission's “Agency Rules of Practice and Procedure” in 10 CFR part 2 as discussed in section II.A of this document.

Unless otherwise indicated, the Commission has determined that the amendment satisfies the criteria for categorical exclusion in accordance with 10 CFR 51.22. Therefore, pursuant to 10 CFR 51.22(b), no environmental impact statement or environmental assessment need be prepared for this amendment. If the Commission has prepared an environmental assessment under the special circumstances provision in 10 CFR 51.12(b) and has made a determination based on that assessment, it is so indicated in the safety evaluation for the amendment.

For further details with respect to these actions, see the amendment and associated documents such as the Commission's letter and safety evaluation, which may be obtained using the ADAMS accession numbers indicated in the following table. The safety evaluation will provide the ADAMS accession number(s) for the application for amendment and the Federal Register citation for any environmental assessment. All of these items can be accessed as described in the “Obtaining Information and Submitting Comments” section of this document.

License Amendment Issuance(s)—Exigent/Emergency Circumstances
| 50-328
Tennessee Valley Authority; Sequoyah Nuclear Plant, Unit 2; Hamilton County, TN
Docket No(s). | 50-328.
Amendment Date | October 27, 2021.
ADAMS Accession No | ML21298A031.
Amendment No(s) | 350 (Unit 2).
Brief Description of Amendment(s) | The amendment revised Technical Specification 3.4.12, “Low Temperature Overpressure Protection (LTOP) System,” to add a one-time note to allow operation of one safety injection pump and one charging pump capable of injecting into the reactor coolant system during MODE 5 or MODE 6 with the pressurizer manway cover removed.
Local Media Notice (Yes/No) | Yes.
Public Comments Requested as to Proposed NSHC (Yes/No) | Yes.

Dated: December 14, 2021.
For the Nuclear Regulatory Commission.
Brian D. Wittick,
Acting Deputy Director, Division of Operating Reactor Licensing, Office of Nuclear Reactor Regulation.

[FR Doc. 2021-27415 Filed 12-27-21; 8:45 am]

BILLING CODE 7590-01-P